NATIONAL LABOR RELATIONS BOARD

Sunshine Act Meetings

TIME AND DATE: Each Wednesday of every month through Fiscal Year 2025, at 2:00 p.m. Changes in date and time will be posted at www.nlrb.gov.

PLACE: Meetings will be held via videoconferencing technology. If Board meetings resume in person, the Board will meet in the Board Agenda Room, No. 5065, 1015 Half St., SE, Washington DC. Any in-person meetings will be noted at www.nlrb.gov.

STATUS: Closed.

MATTERS TO BE CONSIDERED: Pursuant to § 102.139(a) of the Board's Rules and Regulations, the Board or a panel thereof will consider “the issuance of a subpoena, the Board's participation in a civil action or proceeding or an arbitration, or the initiation, conduct, or disposition . . . of particular representation or unfair labor practice proceedings under section 8, 9, or 10 of the [National Labor Relations] Act, or any court proceedings collateral or ancillary thereto.” See also 5 U.S.C. 552b(c)(10).

FOR FURTHER INFORMATION CONTACT: Roxanne L. Rothschild, Executive Secretary, 1015 Half Street SE, Washington, DC 20570. Telephone: (202) 273-1940.

Dated: September 6, 2024.
Roxanne L. Rothschild,
Executive Secretary, National Labor Relations Board.

[FR Doc. 2024-20572 Filed 9-6-24; 4:15 pm]

BILLING CODE 7545-01-P